OFFICE OF PERSONNEL MANAGEMENT

Excepted Service

AGENCY: U.S. Office of Personnel Management (OPM).

ACTION: Notice.

SUMMARY: This gives notice of OPM decisions granting authority to make appointments under

Schedules A, B, and C in the excepted service as required by 5 CFR 6.6 and 213.103.

FOR FURTHER INFORMATION CONTACT: Mary Lamary Acting Group Manager, Executive Resources Services Group, Center for Human Resources, Division for Human Capital Leadership and Merit System Accountability, 202-606-2246.

SUPPLEMENTARY INFORMATION: Appearing in the listing below are the individual authorities established under Schedules A, B, and C between May 1, 2008, and May 30, 2008. Future notices will be published on the fourth Tuesday of each month, or as soon as possible thereafter. A consolidated listing of all authorities as of June 30 is published each year.

Schedule A

No Schedule A appointments were approved for May 2008.

Schedule B

No Schedule B appointments were approved for May 2008.

Schedule C

The following Schedule C appointments were approved during May 2008.

Section 213.3303 Executive Office of the President

Council on Environmental Quality

EQGS60021 Special Assistant to the Chairman (Council on Environmental Quality). Effective May 09, 2008.

EQGS00018 Associate Director for Congressional Affairs to the Chairman (Council on Environmental Quality). Effective May 29, 2008.

Office of Management and Budget

BOGS70005 Confidential Assistant to the Associate Director for Legislative Affairs. Effective May 13, 2008.

Office of National Drug Control Policy

QQGS80008 Special Assistant to the Associate Director for the Office of Legislative Affairs. Effective May 14, 2008.

Section 213.3304 Department of State

DSGS69741 Staff Assistant to the Assistant Secretary, Bureau of Educational and Cultural Affairs. Effective May 02, 2008.

DSGS69735 Senior Advisor to the Principal Deputy Assistant Secretary for Counter Proliferation. Effective May 12, 2008.

DSGS69743 Staff Assistant to the Under Secretary for Arms Control and Security Affairs. Effective May 12, 2008.

DSGS69744 Staff Assistant to the Senior Advisor to the Secretary and White House Liaison. Effective May 12, 2008.

DSGS69745 Special Assistant to the Assistant Secretary for International Organizational Affairs. Effective May 13, 2008.

DSGS69742 Office Director to the Principal Deputy Assistant Secretary. Effective May 14, 2008.

Section 213.3305 Department of the Treasury

DYGS00457 Deputy Executive Secretary to the Chief of Staff. Effective May 16, 2008.

Section 213.3306 Department of Defense

DDGS17157 Special Assistant to the Deputy Under Secretary of Defense (Budget and Appropriations Affairs). Effective May 14, 2008.

DDGS17158 Special Assistant to the Director, Department of Defense Office of Legislative Counsel. Effective May 14, 2008.

DDGS17161 Personal and Confidential Assistant to the Principal Deputy Assistant Secretary of Defense for Public Affairs. Effective May 30, 2008.

Section 213.3310 Department of Justice

DJGS00297 Counsel to the Assistant Attorney General (Civil Rights). Effective May 02, 2008.

DJGS00103 Counsel to the Associate Attorney General. Effective May 14, 2008.

DJGS00091 Staff Assistant to the Assistant Attorney General (Legislative Affairs). Effective May 16, 2008.

DJGS00088 Deputy Director Scheduling to the Attorney General. Effective May 21, 2008.

Section 213.3311 Department of Homeland Security

DMGS00751 Public Affairs and Press Assistant to the Assistant Secretary for Public Affairs. Effective May 13, 2008.

Section 213.3313 Department of Agriculture

DAGS00941 Press Assistant to the Director of Communications. Effective May 09, 2008.

Section 213.3314 Department of Commerce

DCGS00652 Confidential Assistant to the Director of Public Affairs. Effective May 1, 2008.

DCGS00380 Confidential Assistant to the Under Secretary for International Trade. Effective May 09, 2008.

DCGS00556 Confidential Assistant to the Chief of Staff to the Deputy Secretary. Effective May 09, 2008.

DCGS00688 Confidential Assistant to the Chief of Staff for Market Access and Compliance. Effective May 09, 2008.

DCGS00689 Confidential Assistant to the Director, Executive Secretariat. Effective May 09, 2008.

DCGS00662 Special Assistant to the Deputy Assistant Secretary for Commuications and Information. Effective May 13, 2008.

DCGS00252 Confidential Assistant to the Assistant Secretary for Legislative and Intergovernmental Affairs. Effective May 22, 2008.

DCGS00272 Special Assistant to the Director, Advocacy Center. Effective May 22, 2008.

DCGS00521 Confidential Assistant to the Assistant Secretary and Director General of United States/For Commercial Services. Effective May 22, 2008.

DCGS00569 Confidential Assistant to the Director for Speechwriting. Effective May 22, 2008.

DCGS00653 Deputy Director, Office of Public Affairs to the Director of Public Affairs. Effective May 22, 2008.

DCGS60189 Special Assistant to the Secretary. Effective May 22, 2008.

DCGS00680 Deputy Press Secretary to the Director of Public Affairs. Effective May 29, 2008.

DCGS00342 Chief of Staff for International Trade Administration/Import Administration to the Assistant Secretary for Import Administration. Effective May 29, 2008.

DCGS00383 Confidential Assistant to the Director Advocacy Center. Effective May 29, 2008.

DCGS00398 Special Assistant to the Director Advocacy Center. Effective May 29, 2008.

DCGS00507 Confidential Assistant to the Chief of Staff for Market Access and Compliance. Effective May 29, 2008.

Section 213.3315 Department of Labor

DLGS00089 Director of Field Operations to the Director of Scheduling. Effective May 07, 2008.

DLGS00108 Senior Advance Representative to the Director of Scheduling. Effective May 07, 2008.

Section 213.3317 Department of Education

DBGS00640 Deputy Secretary's Regional Representative to the Deputy Secretary's Regional Representative. Effective May 06, 2008.

DBGS00226 Confidential Assistant to the Special Assistant. Effective May 07, 2008.

DBGS60164 Confidential Assistant to the Senior Advisor to the Under Secretary. Effective May 14, 2008.

DBGS00447 Secretary's Regional Representative, Region 3 to the Deputy Assistant Secretary for External Affairs. Effective May 22, 2008.

DBGS00666 Executive Director, White House Initiative on Tribal Colleges and Universities to the Assistant Secretary for Postsecondary Education. Effective May 22, 2008.

DBGS00283 Special Assistant to the Deputy Assistant Secretary for External Affairs. Effective May 29, 2008.

DBGS00667 Special Assistant to the Assistant Deputy Secretary for Innovation and Improvement. Effective May 29, 2008.

DBGS00668 Associate Assistant Deputy Secretary for Parental Rights to the Assistant Deputy Secretary for Innovation and Improvement. Effective May 29, 2008.

DBGS60112 Confidential Assistant to the Special Assistant. Effective May 29, 2008.

DBGS00394 Confidential Assistant to the Special Assistant. Effective May 30, 2008.

Section 213.3318 Environmental Protection Agency

EPGS08006 Special Assistant to the Associate Administrator for Public Affairs. Effective May 14, 2008.

EPGS06033 Confidential Assistant to the Deputy Administrator. Effective May 16, 2008.

EPGS08003 Press Secretary to the Associate Administrator for Public Affairs. Effective May 21, 2008.

EPGS08004 Deputy Press Secretary to the Associate Administrator for Public Affairs. Effective May 22, 2008.

Section 213.3325 United States Tax Court

JCGS60063 Secretary (Confidential Assistant) to the Chief Judge. Effective May 05, 2008.

JCGS60083 Chambers Administrator to the Chief Judge. Effective May 05, 2008.

JCGS60076 Trial Clerk to the Chief Judge. Effective May 23, 2008.

JCGS60084 Trial Clerk to the Chief Judge. Effective May 23, 2008.

JCGS60085 Trial Clerk to the Chief Judge. Effective May 28, 2008.

Section 213.3327 Department of Veterans Affairs

DVGS60104 Special Assistant to the Secretary of Veterans Affairs. Effective May 22, 2008.

Section 213.3331 Department of Energy

DEGS00649 Special Assistant to the Director, Office of Scheduling and Advance. Effective May 06, 2008.

DEGS00653 Policy Advisor to the Assistant Secretary for Fossil Energy. Effective May 13, 2008.

DEGS00648 Special Assistant and Scheduler to the Secretary to the Director, Office of Scheduling and Advance. Effective May 13, 2008.

DEGS00651 Special Assistant to the White House Liaison. Effective May 16, 2008.

DEGS00654 Senior Policy Advisor to the Assistant Secretary for Policy and International Affairs. Effective May 16, 2008.

DEGS00656 Senior Policy Advisor to the Deputy Secretary of Energy. Effective May 16, 2008.

DEGS00652 Deputy Chief of Staff to the Chief of Staff. Effective May 21, 2008.

DEGS00657 Senior Advisor to the Secretary, Department of Energy. Effective May 22, 2008.

DEGS00659 Special Assistant to the Deputy Assistant Secretary. Effective May 22, 2008.

DEGS00660 Special Assistant to the Assistant Secretary of Energy (Nuclear Energy). Effective May 22, 2008.

DEGS00661 Special Assistant to the Senior Advisor. Effective May 29, 2008.

Section 213.3332 Small Business Administration

SBGS00649 Senior Advisor to the Associate Administrator for Capital Access to the Associate Deputy Administrator for Capital Access. Effective May 22, 2008.

Section 213.3348 National Aeronautics and Space Administration

NNGS00045 Congressional Outreach Program Manager to the Assistant Administrator for Legislative Affairs and Intergovernmental Affairs. Effective May 09, 2008.

NNGS00173 Legislative Intergovernmental Program Manager to the Assistant Administrator for Legislative Affairs and Intergovernmental Affairs. Effective May 09, 2008.

Section 213.3384 Department of Housing and Urban Development

DUGS60286 Staff Assistant to the Assistant Secretary for Housing, Federal Housing Commissioner. Effective May 12, 2008.

Section 213.3394 Department of Transportation

DTGS60313 Director of Governmental Affairs to the Administrator. Effective May 13, 2008.

DTGS60365 Counselor to the Assistant Secretary for Transportation Policy to the Assistant Secretary for Transportation Policy. Effective May 22, 2008.

DTGS60337 Director of Communications to the Administrator. Effective May 23, 2008.

Authority: 5 U.S.C. 3301 and 3302; E.O. 10577, 3 CFR 1954-1958 Comp., p. 218.

U.S. Office of Personnel Management.
Howard C. Weizmann,
Deputy Director.

[FR Doc. E8-14150 Filed 6-20-08; 8:45 am]

BILLING CODE 6325-39-P